FEDERAL COMMUNICATIONS COMMISSION

Notice of Public Information Collection(s) Being Reviewed by the Federal Communications Commission

September 20, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 30, 2000. If you anticipate that you will be submitting comments, but find it difficult to do so within the period of time allowed by this notice, you should advise the contact listed below as soon as possible.

ADDRESSES: Direct all comments to Judy Boley, Federal Communications Commission, Room 1-C804, 445 12th Street, SW, Washington, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0949.

Title: Interstate Telephone Service Provider Worksheet.

Form No.: FCC Form 159-W.

Type of Review: Extension of a currently approved collection.

Respondents: Individuals or households, businesses or other for-profit, not-for-profit institutions, and state, local or tribal government.

Number of Respondents: 4,500.

Estimated Time Per Response: .25 hours.

Frequency of Response: On occasion and annual reporting requirement.

Total Annual Burden: 1,125 hours.

Total Annual Cost: N/A.

Needs and Uses: The information supplied will assist applicants in determining the correct amount of regulatory fees owed the Commission, and will facilitate FCC verification that the correct fee amount has been paid. This form will be filed annually, but only by those parties who are required to pay the interstate telephone operator service provider fee.

OMB Control No.: 3060-0512.

Title: ARMIS Annual Summary Report.

Report No.: FCC Report 43-01.

Type of Review: Extension of a currently approved collection.

Respondents: Businesses or other for-profit.

Number of Respondents: 150.

Estimated Time Per Response: 135 hours.

Frequency of Response: Annual reporting requirement.

Total Annual Burden: 20,250 hours.

Total Annual Cost: N/A.

Needs and Uses: ARMIS was implemented to facilitate the timely and efficient analysis of revenue requirements, rates of return and price caps; to provide an improved basis for audits and other oversight functions; and to enhance the Commission's ability to quantify the effects of alternative policy. The ARMIS Report 43-01 contains financial and operating data and is used to monitor the incumbent local exchange carriers (“ILECs”) and to perform routine analyses of costs and revenues. ARMIS Report 43-01 facilitates the annual collection of results of accounting, rate base, and cost allocation requirements prescribed in Parts 32, 36, 64, 65 and 69 of the Commission's Rules.

Federal Communications Commission.
Magalie Roman Salas,
Secretary.

[FR Doc. 00-24962 Filed 9-28-00; 8:45 am]

BILLING CODE 6712-01-U